DEPARTMENT OF HEALTH AND HUMAN SERVICES

Health Resources and Services Administration

National Advisory Committee on Rural Health and Human Services

AGENCY: Health Resources and Service Administration (HRSA), Department of Health and Human Services (HHS).

ACTION: Notice of charter renewal.

SUMMARY: HHS is hereby giving notice that the charter for the National Advisory Committee on Rural Health and Human Services (NACRHHS) has been renewed. The effective date of the renewed charter is October 31, 2017.

FOR FURTHER INFORMATION CONTACT: Paul Moore, Designate Federal Official, NACRHHS, HRSA, 5600 Fishers Lane, Room 17W41C, Rockville, Maryland 20857, telephone (301) 443-0835, fax (301) 443-2803 or by email at pmoore2@hrsa.gov.

SUPPLEMENTARY INFORMATION: NACRHHS provides advice to the Secretary concerning the provision and financing of health care and human services in rural areas. The current Committee was established under Section 222 of the Public Health Service Act, as amended, 42 U.S.C. 217a. In accordance with Public Law 92-463, it was chartered on October 30, 1987, has been renewed at appropriate intervals, and will operate until October 31, 2019. The Committee will continue to operate in accordance with the provisions of the Federal Advisory Committee Act (FACA).

A copy of the NACRHHS charter is available on the NACRHHS Web site at https://www.hrsa.gov/advisorycommittees/rural/. A copy of the charter is also available on the FACA database that is maintained by the Committee Management Secretariat under the General Services Administration. The Web site for the FACA database is http://www.facadatabase.gov/.

Amy McNulty,
Acting Director, Division of the Executive Secretariat.

[FR Doc. 2017-23562 Filed 10-30-17; 8:45 am]

BILLING CODE 4165-15-P